DEPARTMENT OF COMMERCE

International Trade Administration

[A-570-002]

Chloropicrin From the People's Republic of China: Final Results of the Expedited Sunset Review of the Antidumping Duty Order

AGENCY: Enforcement and Compliance, International Trade Administration, Department of Commerce.

SUMMARY: On April 1, 2015, the Department of Commerce (“the Department”) initiated a sunset review of the antidumping duty order on chloropicrin from the People's Republic of China (“PRC”) ¹ pursuant to section 751(c) of the Tariff Act of 1930, as amended (“the Act”). Based on the notice of intent to participate and adequate response filed by the domestic interested parties, and the lack of response from any respondent interested party, the Department conducted an expedited sunset review of the Order pursuant. As a result of this sunset review, the Department finds that revocation of the Order would likely lead to continuation or recurrence of dumping, at the levels indicated in the “Final Results of Sunset Review”' section of this notice.

¹ See Antidumping Duty Order; Chloropicrin from the People's Republic of China, 49 FR 10691 (March 22, 1984) (“Order”).

DATES: Effective date: August 7, 2015.

FOR FURTHER INFORMATION CONTACT: Howard Smith, AD/CVD Operations, Office IV, Enforcement and Compliance, International Trade Administration, U.S. Department of Commerce, 14th Street and Constitution Avenue NW., Washington, DC 20230; telephone: (202) 482-5193.

SUPPLEMENTARY INFORMATION:

Background

On April 1, 2015, the Department initiated a sunset review of the order on chloropicrin from the PRC pursuant to section 751(c) of the Act.² On April 15, 2015, the Department received a timely notice of intent to participate in the sunset review from Ashta Chemicals, Inc. (“Ashta”), Niklor Chemical Company, Inc. (“Niklor”), and Trinity Manufacturing, Inc. (“Trinity”), domestic interested parties, pursuant to 19 CFR 351.218(d)(1)(i). On May 1, 2015, Ashta, Niklor, and Trinity filed a timely substantive response with the Department pursuant to 19 CFR 351.218(d)(3)(i) . The Department did not receive a substantive response from any respondent interested party. As a result, pursuant to section 751(c)(3)(B) of the Act and 19 CFR 351.218(e)(1)(ii)(C)(2), the Department conducted an expedited sunset review of the Order.

² See Initiation of Five-year (“Sunset”) Review, 80 FR 17388 (April 1, 2015).

Scope of the Order

The merchandise subject to the antidumping duty order is chloropicrin, also known as trichloronitromethane. A major use of the product is as a pre-plant soil fumigant (pesticide). Such merchandise is currently classifiable under Harmonized Tariff Schedule (“HTS”) item number 2904.90.50.05.³ The HTS item number is provided for convenience and customs purposes. The written description remains dispositive.

³ In 2004, a new HTS category was developed and identified specifically for imports of chloropicrin, i.e., 2904.90.50.05. Previously, the HTS category that included chloropicrin was 2904.90.50.

Analysis of Comments Received

All issues raised in this sunset review are addressed in the “Issues and Decision Memorandum for the Expedited Sunset Review of the Antidumping Duty Order on Chloropicrin from the People's Republic of China” from Christian Marsh, Deputy Assistant Secretary for Antidumping and Countervailing Duty Operations, to Paul Piquado, Assistant Secretary for Enforcement and Compliance, dated concurrently with, and hereby adopted by, this notice (“Decision Memorandum”). The issues discussed in the Decision Memorandum include the likelihood of continuation or recurrence of dumping and the magnitude of the margins likely to prevail if the Order were to be revoked. Parties may find a complete discussion of all issues raised in the review and the corresponding recommendations in this public memorandum which is on file electronically via Enforcement and Compliance's Antidumping and Countervailing Duty Centralized Electronic Services System (“ACCESS”). ACCESS is available to registered users at http://access.trade.gov and is available to all parties in the Central Records Unit, Room B8024 of the main Department of Commerce building. In addition, a complete version of the Decision Memorandum is available directly on the Web at http://enforcement.trade.gov/frn/index.html. The signed Decision Memorandum and the electronic versions of the Decision Memorandum are identical in content.

Final Results of Sunset Review

Pursuant to Section 752(c)(3) of the Act, the Department determines that revocation of the Order would be likely to lead to continuation or recurrence of dumping at weighted average margins up to 58.00 percent.

Notification Regarding Administrative Protective Orders

This notice also serves as the only reminder to parties subject to administrative protective order (“APO”') of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752, and 777(i)(1) of the Act and 19 CFR 351.218.

Dated: July 29, 2015.
Paul Piquado,
Assistant Secretary for Enforcement and Compliance.

[FR Doc. 2015-19480 Filed 8-6-15; 8:45 am]

BILLING CODE P